FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573, by telephone at (202) 523-5843 or by email at OTI@fmc.gov.

Aieca International Logistics Corp (OFF), 5583 NW 72 Avenue, Miami, FL 33166, Officer: Humberto E. Espinoza, President/Secretary/Treasurer, (Qualifying Individual), Application Type: New OFF License.

Boacon Synergy Inc (OFF), 3523 Steeplechase Lane, #2A, Loveland, OH 45140, Officers: Benjamin Afolabi, President/Treasurer, (Qualifying Individual), Beatrice O. Afolabi, Secretary, Application Type: New OFF License.

Eastern Express Cargo Inc. dba Eastern Express (OFF), 10717 Camino Ruiz, #119, San Diego, CA 92126, Officers: Alex O. De Guzman, President, (Qualifying Individual), Ehmee O. De Guzman, Secretary/CFO, Application Type: New OFF License.

E.M. Global Cargo, Inc (NVO & OFF), 4980 NW 11th Avenue, Ft. Lauderdale, FL 33334, Officer: Eugenio J. Martinez, President/Secretary/Treasurer/VP, (Qualifying Individual), Application Type: New NVO & OFF License.

Fil Lines USA Inc. (NVO), One Woodbridge Center, Suite 255, Woodbridge, NJ 07095, Officers: Ramesh Krishnan, Director/President/Treasurer, (Qualifying Individual), Martin Huen, Vice President, Application Type: QI Change.

Friendship Logistics LLC (OFF), 7823 New London Drive, Springfield, VA 22153, Officers: Feras Hindi, Member, (Qualifying Individual), Ruba Hindi, Member, Application Type: New OFF License.

Kemka USA Limited Liability Company (NVO & OFF), 421 Lucy Court, South Plainfield, NJ 07080, Officer: Hsiang (Rita) Y. Hsiao, Member, (Qualifying Individual), Application Type: Add OFF Service.

Lynx Global Corp. (NVO & OFF), 2000 NW 62nd Avenue, Building 711, Miami, FL 33122, Officers: Eugenio J. Clur, Director, (Qualifying Individual), Alfonso Rey, Owner, Application Type: New NVO & OFF License.

Markland Investments, Inc. (OFF), 4517 Fulton Industrial Blvd., Atlanta, GA 30336, Officer: Mark Asare, President, (Qualifying Individual), Application Type: New OFF License.

Midas International Investments LLC dba Midas Express, Shipping and Freight (NVO), 142223 Cherry Lane Court, Laurel, MD 20707, Officer: Ademola Oreagba, President, (Qualifying Individual), Application Type: New NVO License.

One Shipping, Inc. (NVO & OFF), 6703 N. Cicero Avenue, Lincolnwood, IL 60712, Officer: Steven Chong, President/Secretary, (Qualifying Individual), Application Type: New NVO & OFF License.

Sealand Freight LLC (NVO), 3925 Galveston Road, Houston, TX 77017, Officers: Walid M. Hattab, Chief Executive Member, (Qualifying Individual), Ola M. Ghunmat, Member, Application Type: New NVO License.

Dated: December 9, 2011.
Karen V. Gregory,
Secretary.

[FR Doc. 2011-32110 Filed 12-14-11; 8:45 am]

BILLING CODE 6730-01-P